DEPARTMENT OF DEFENSE

Department of the Army

Availability for Non-Exclusive, Exclusive, or Partially Exclusive Licensing of U.S. Patent Application Concerning Prophylactic and Therapeutic Monoclonal Antibodies

AGENCY: Department of the Army, DoD.

ACTION: Notice.

SUMMARY: In accordance with 35 U.S.C. 209 and 37 CFR part 404.6 and 404.7, announcement is made of the availability for licensing of the inventions set forth in the following U.S. Patent Applications:

(1) S.N: 09/650,086 (filed: August 29, 2000).

Title: “Prophylactic and Therapeutic Monoclonal Antibodies.”

Description: In this application are described Ebola GP monoclonal antibodies and epitopes recognized by these monoclonal antibodies. Also provided are mixtures of antibodies of the present invention, as well as methods of using individual antibodies or mixtures thereof for the detection, prevention, and/or therapeutical treatment of Ebola virus infections in vitro and in vivo.

(2) S.N: 10/226,795 (filed: August 23, 2002).

Title: “Monoclonal Antibodies and Complementarity-Determining Regions Binding to Ebola Glycoprotein.”

The United States Government, as represented by the Secretary of the Army, has rights in these inventions.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: None.

Luz D. Ortiz,
Army Federal Register Liaison Officer.

[FR Doc. 03-10247 Filed 4-24-03; 8:45 am]

BILLING CODE 3710-08-M